DEPARTMENT OF ENERGY

Office of Science Financial Assistance Program Notice DE-FG01-03ER03-21; Department of Energy Experimental Program To Stimulate Competitive Research (DOE/EPSCoR) Implementation Awards

AGENCY: U.S. Department of Energy.

ACTION: Notice inviting research applications.

SUMMARY: The Office of Basic Energy Sciences (BES) of the Office of Science (SC), U.S. Department of Energy (DOE), in keeping with its energy-related mission to assist in strengthening the Nation's scientific research enterprise through the support of science, engineering, and mathematics, announces its interest in receiving applications from eligible States for the support of the DOE/EPSCoR Program. The purpose of the DOE/EPSCoR Program is to enhance the capabilities of designated States to conduct nationally-competitive energy-related research and to develop science and engineering human resources in energy-related areas to meet current and future needs.

DATES: The deadline for receipt of formal applications is 4:30 p.m. E.S.T., September 23, 2003, in order to be accepted for merit review and to permit timely consideration for award in Fiscal Year 2004. No application will be accepted after this deadline.

ADDRESSES: Formal applications referencing Program Notice DE-FG01-03ER03-21 must be sent electronically by an authorized institutional business official through DOE's Industry Interactive Procurement System (IIPS) at: http://e-center.doe.gov (see also http://www.sc.doe.gov/production/grants/grants.html). IIPS provides for the posting of solicitations and receipt of applications in a paperless environment via the Internet. In order to submit applications through IIPS your business official will need to register at the IIPS Web site. The Office of Science will include attachments as part of this notice that provide the appropriate forms in PDF fillable format that are to be submitted through IIPS. IIPS offers the option of using multiple files—please limit submissions to one volume and one file if possible, with a maximum of no more than four files. Color images should be submitted in IIPS as a separate file in PDF format and identified as such. These images should be kept to a minimum due to the limitations of reproducing them. They should be numbered and referred to in the body of the technical scientific application as Color image 1, Color image 2, etc. Questions regarding the operation of IIPS may be E-mailed to the IIPS Help Desk at: HelpDesk@pr.doe.gov, or you may call the help desk at: (800) 683-0751. Further information on the use of IIPS by the Office of Science is available at: http://www.sc.doe.gov/production/grants/grants.html.

If you are unable to submit the application through IIPS, please contact the Grants and Contracts Division, Office of Science at: (301) 903-5212, in order to gain assistance for submission through IIPS or to receive special approval and instruction on how to submit printed applications.

FOR FURTHER INFORMATION CONTACT: Dr. Matesh N. Varma, DOE/EPSCoR Program Manager, Division of Materials Sciences and Engineering, SC-132, Germantown Building, Office of Science, U.S. Department of Energy, 1000 Independence Avenue, SW., Washington, DC 20585-1290. Telephone: (301) 903-3209; Fax: (301) 903-9513; E-Mail: matesh.varma@science.doe.gov.

SUPPLEMENTARY INFORMATION: To continue to enhance the competitiveness of states and territories identified for participation in the Experimental Program to Stimulate Competitive Research (EPSCoR) by the National Science Foundation (NSF), DOE has decided to again restrict eligibility to the following states and territory: Alabama, Alaska, Arkansas, Hawaii, Idaho, Kansas, Kentucky, Louisiana, Maine, Mississippi, Montana, Nebraska, Nevada, New Mexico, North Dakota, Oklahoma, South Carolina, South Dakota, Vermont, West Virginia, Wyoming, and the Commonwealth of Puerto Rico. An appropriate fiscal agent, acting on behalf of a state's EPSCoR Committee, may submit only two applications in response to this program notice. Each application is restricted to one research “cluster.” A cluster is defined as a group of scientists working on a common scientific theme. It is the DOE/EPSCoR program policy to limit the Research Implementation Awards to one active award per state. Therefore, only those EPSCoR states that have: (1) Not received a previous DOE/EPSCoR Research Implementation Awards, (2) “graduated” their previously supported Research Implementation Awards research clusters or (3) received final funding for their Research Implementation Awards in Fiscal Year 2003, are eligible to apply for Fiscal Year 2004 funding. Thus, only the following states are eligible to apply under this notice: Alaska, Arkansas, Hawaii, Idaho, Louisiana, Maine, New Mexico, North Dakota, Oklahoma, South Carolina, South Dakota, and Wyoming. Awards issued under this Notice will provide funding for basic research, its coordination, and development of human resources in the state. The DOE/EPSCoR Research Implementation Awards should be used to improve the academic research infrastructure of key science and technology areas identified by the state's EPSCoR governing committee as critical to the development of state and institutional research and development capability. The state's strategy to develop and utilize the scientific and technological resources that reside in its research universities should be described in its DOE/EPSCoR Research Implementation Awards application. In preparation for submitting an application, the EPSCoR governing committee within each state is expected to have undertaken a comprehensive analysis of the strengths, weaknesses, and opportunities for development of its research institutions in support of overall state research and development objectives. Successful infrastructure improvement plans are likely to be those which are focused on one energy-related research area and which candidly represent the opportunities for enhanced academic R&D competitiveness, including the acquisition of sustained non-EPSCoR support. Most important, the state's infrastructure improvement strategy must have a high probability of realizing stated goals and objectives as judged by members of a DOE merit review panel. In all instances, performance milestones and a timetable for achieving such milestones are prerequisites for EPSCoR support. Priority will be given to applications that propose to develop new competitive research areas rather than those that propose to enhance or continue research areas that are already competitive. The DOE/EPSCoR Research Implementation Awards are not appropriate mechanisms to provide support for individual faculty science and technology research projects.

Program Funding

Subject to Congressional authorization and approval of funds in Fiscal Year 2004 DOE anticipates an estimated $1.0 million will be available for awards to fund collaborative research and human resource development in energy-related science and engineering disciplines. Approximately one to two awards are anticipated in Fiscal Year 2004 at a maximum award level of $750,000 per year for a period of three years. EPSCoR funding will not be provided to the national laboratories or non-designated EPSCoR states. Continuation funding for the awards will be contingent upon the availability of appropriated funds, progress of the research, and continuing program need. Renewal applications for implementation awards beyond the initial three-year period will be considered for an additional three years, subject to continuing meritorious performance and progress in the previous award periods, as well as the value added of the proposed effort and the availability of funds. As a tangible measure of an applicant's commitment to the objectives of the DOE/EPSCoR Program, cost sharing on a minimum one-to-one ratio is a requirement for the implementation grants. Therefore, each application submitted requesting support from DOE under this Notice must provide, from non-Federal funds, an amount equal to or greater than the amount awarded by DOE; i.e., for every dollar provided by DOE, the recipient must provide a dollar or more from non-Federal sources for the project.

Applications

The DOE/EPSCoR Research Implementation Awards are open to the entire range of energy-related disciplines supported by the Department of Energy. Additional information on the DOE Research Programs is available at the following Web site addresses:

Department of Energy (General Information): http://www.energy.gov/.

Office of Science: http://www.science.doe.gov/feature/BES.htm.

Basic Energy Sciences: http://www.science.doe.gov/feature/BES.htm.

Biological and Environmental Research: http://www.science.doe.gov/.

Advanced Scientific Computing Research: http://www.science.doe.gov/feature/ASCR.htm.

Fusion Energy Sciences: http://www.science.doe.gov/feature/fes.htm.

High Energy and Nuclear Physics: http://www.science.doe.gov/feature/hep-hp.htm.

Office of Defense Programs: http://www.nnsa.doe.gov/.

Office of Energy Efficiency and Renewable Energy: http://www.eren.doe.gov.

Office of Fossil Energy: http://www.fe.doe.gov.

Office of Environmental Management: http://www.em.doe.gov.

Office of Civilian Radioactive Waste Management: http://www.rw.doe.gov.

Office of Nuclear Energy: http://www.ne.doe.gov.

Merit Review

Applications will be subjected to formal scientific merit review and will be evaluated against the following evaluation criteria listed in descending order of importance as codified at 10 CFR 605.10(d).

1. Scientific and/or Technical Merit of the Project.

2. Appropriateness of the Proposed Method or Approach.

3. Competency of Applicant's Personnel and Adequacy of Proposed Resources.

4. Reasonableness and Appropriateness of the Proposed Budget.

The evaluation will include program policy factors such as the relevance of the proposed Research to the terms of the announcement and the agency's programmatic needs. Applications will also be reviewed by relevant program offices to determine the priority of research. Program offices will also be asked for their willingness to provide co-funding if a project is selected for approval. Note: External peer reviewers are selected with regard to both their scientific expertise and the absence of conflict-of-interest issues. Non-federal reviewers will often be used, and submission of an application constitutes agreement that this is acceptable to the investigator(s) and the submitting institution. All projects will be evaluated using the same criteria, regardless of the submitting institution.

Applicants are encouraged to collaborate with researchers in other institutions, such as universities, national laboratories, industry, and nonprofit organizations. General information about the development and submission of applications, eligibility, limitations, evaluation, and selection processes, and other policies and procedures may be found in 10 CFR part 605 and in the Application Guide for the Office of Science Financial Assistance Program. Electronic access to the Guide and required forms are available via the World Wide Web at: http://www.science.doe.gov/grants/.

Specific guidance for the preparation of the DOE/EPSCoR Research Implementation applications may be found in the “Supplemental Information Guidelines” at Web site: http://www.er.doe.gov/production/bes/EPSCoR/APPLI.HTM. Because of program specific information required and the overall complexity of the applications, the format and guidance included in the “Supplemental Information Guidelines” supersedes that of the general instructions for the preparation of an application to the Office of Science.

The Catalog of Federal Domestic Assistance number for this program is 81.049, and the solicitation control number is ERFAP 10 CFR part 605.
Issued in Washington, DC on April 14, 2003.
Ralph H. De Lorenzo,
Acting Associate Director of Science for Resource Management.

[FR Doc. 03-10019 Filed 4-22-03; 8:45 am]

BILLING CODE 6450-03-P